DEPARTMENT OF AGRICULTURE

Natural Resources Conservation Service

Lower Clear Boggy Creek Watershed, Site 32B, Atoka County, Oklahoma

AGENCY: Natural Resources Conservation Service, USDA.

ACTION: Notice of availability of record of decision.

SUMMARY: M. Darrel Dominick, responsible Federal official for projects administered under the provisions of Public Law 83-566, 16 U.S.C. 1001-1008, in the State of Oklahoma, is hereby providing notification that a record of decision to proceed with the installation of the Lower Clear Boggy Creek Watershed, Site 32B project is available. Single copies of this record of decision may be obtained from M. Darrel Dominick at the address shown below.

FOR FURTHER INFORMATION CONTACT: M. Darrel Dominick, State Conservationist, Natural Resources Conservation Service, State Office, 100 USDA Suite 206, Stillwater, Oklahoma, 74074-2655, telephone (405) 742-1227.

(This activity is listed in the Catalog of Federal Domestic Assistance under No. 10.904, Watershed Protection and Flood Prevention, and is subject to the provisions of Executive Order 12372, which requires intergovernmental consultation with State and local officials.)

Dated: June 19, 2002.
M. Darrel Dominick,
State Conservationist.

[FR Doc. 02-16876 Filed 7-3-02; 8:45 am]

BILLING CODE 4310-16-M